DEPARTMENT OF HOUSING AND URBAN DEVELOPMENT

[Docket No. FR-6038-N-01]

Authority To Accept Unsolicited Proposals for Research Partnerships

AGENCY: Office of the Assistant Secretary for Policy Development and Research, HUD.

ACTION: Notice.

SUMMARY: This notice announces that HUD's Office of Policy Development and Research (PD&R) has the authority to accept unsolicited research proposals that address current research priorities. In accordance with statutory requirements, the research projects must be funded at least 50 percent by philanthropic entities or Federal, state, or local government agencies. This notice announces that HUD is accepting research proposals and provides a general description of information that should be included in any research proposal.

DATES: Proposals may be submitted at any time and will be evaluated as they are received. Available funds will be awarded as proposals are received, evaluated, and approved, until funds are exhausted.

ADDRESSES: You may submit comments, identified by docket number and title, by email, at: ResearchPartnerships@hud.gov, or by mail, at: Attention: Housing and Urban Development, Office of University Partnerships, 451 7th Street SW., Room 8226, Washington, DC 20410.

FOR FURTHER INFORMATION CONTACT: Kinnard Wright, Grant Specialist, Room 8226, 451 Seventh Street SW., Washington, DC 20410, telephone number 202-402-7495, or Madlyn Wohlman-Rodriguez, Grant Specialist, Room 8226, 451 Seventh Street SW., Washington, DC 20410, telephone number 202-402-5939. ATTENTION: Persons with speech or hearing impairments may call the Federal Relay Service TTY at 800-877-8339.

SUPPLEMENTARY INFORMATION: The Consolidated Appropriations Act, 2017, (Pub. L. 115-31, enacted May 5, 2017) (FY 2017 appropriation) authorizes PD&R to enter non-competitive cooperative agreements for research projects that are aligned with PD&R's research priorities and that will help inform HUD's policies and programs

I. Program Description

HUD developed the Research Partnerships vehicle to allow greater flexibility in addressing important policy questions and to better utilize external expertise in evaluating the local innovations and effectiveness of programs impacting residents of urban, suburban, rural and tribal areas. Through this notice, HUD can accept unsolicited research proposals that address current research priorities and allow PD&R to participate in innovative research projects that inform HUD's policies and programs. These projects are meant to align with PD&R's research priorities and help HUD answer key policy and programmatic questions in ways that can inform new policy and program development efforts.

II. Research Priorities

The documents that establish a framework for HUD's research priorities are the HUD Strategic Plan (https://portal.hud.gov/hudportal/documents/huddoc?id=hudstrategicplan2014-2018.pd), which specifies the Department's mission and strategic goals for program activities; and the HUD Research Roadmap: 2017 Update (https://www.huduser.gov/portal/pdf/ResearchRoadmap-2017Update.pdf), which is the most recent integration of diverse stakeholder viewpoints into a five-year research agenda. PD&R developed and published this research agenda to focus research resources on timely, policy-relevant research questions that lie within the Department's area of comparative advantage. This focus on comparative advantage has a corollary, which is the accompanying need for PD&R to collaborate with other research organizations to support their comparative advantage in areas that are mutually important. The Roadmap Update identifies research projects that PD&R is considering for the near future under 12 focus areas:

(1) Housing Affordability (Markets)

(2) Housing Affordability (Programs)

(3) Policy Lessons from Moving to Work Expansion

(4) Energy and Resilience

(5) Education

(6) Health

(7) Mobility

(8) Place-based Strategies

(9) Crosscutting—Fair Housing

(10) Crosscutting—Building Technology

(11) Crosscutting—Other

(12) Data Infrastructure

The authority that Congress provided HUD to enter noncompetitive cooperative agreements for research is a central tool for fulfilling the Roadmap's vision for research collaboration. Potential research partners are encouraged to develop research proposals that inform important and emerging policy and program objectives of HUD that are not otherwise being addressed and that focus on HUD research priorities. A few examples of potentially useful research topics are presented in the following list for each of HUD's current strategic goals.

A. Strengthening Housing Markets: Homeownership and Housing Finance. HUD is interested in research in diverse areas of homeownership and housing finance:

1. Improving outcomes for struggling homeowners and communities in the areas of foreclosures, mortgage modification protocols, and real-estate owned properties;

2. Finding ways that are safer for both borrowers and lenders to extend mortgage credit to first-time homebuyers and homeowners with less-than-stellar credit;

3. Updating federal support structures for single-family and multifamily housing finance in a reformed housing finance system; and

4. Strengthening models of public-private partnership to increase availability of mortgage capital and ensure sustained homeownership and wealth accumulation by low-income and disadvantaged homebuyers.

B. Affordable Quality Rental Housing. HUD is interested in research that improves the efficiency and effectiveness of HUD's housing programs (e.g., public housing, Housing Choice Vouchers, assisted multifamily programs, and FHA insurance):

1. Improving program operations and responses to changing market conditions;

2. Identifying rent subsidy approaches that could meet housing needs more efficiently and support self-sufficiency, such as by leveraging opportunities for rent reform experiments when extending Moving To Work flexibilities to additional housing agencies;

3. Better understanding how HUD's programs and tenant outcomes are affected by tenant and landlord behavior, supports, and the framing of choices; and

4. Strengthening models of public-private partnership to increase production and preservation of decent, safe, and affordable housing in neighborhoods of opportunity.

C. Housing as a platform for improving quality of life. HUD is interested in how housing matters for human outcomes, and specifically how HUD-provided housing assistance, and HUD collaborations with public and private partners, can best improve quality of life of assisted residents and produce spillover benefits for other systems and communities:

1. Improving educational outcomes of children and adults, and early learning, child development, and parenting;

2. Improving health and wellness outcomes and integration with health systems;

3. Increasing economic security and self-sufficiency, including work participation and asset development by able-bodied residents; and

4. Improving housing stability for vulnerable populations, including the elderly, people with disabilities, homeless families and individuals, and those individuals and families at risk of becoming homeless.

D. Resilient and inclusive communities. HUD is interested in collaborative, innovative, evidence-based approaches to deal with long-standing and emerging community development challenges in suburban, rural and tribal areas:

1. Leveraging cost-effective housing technology in HUD-funded housing or other housing to reduce energy costs, improve disaster resilience, and improve tenant outcomes;

2. Cost-effective approaches to address the public health burden of lead paint, lead dust in soil, and asthma triggers in housing and communities;

3. Strengthening fair housing outcomes in local markets, including through public-private partnerships;

4. Strengthening community resilience in the face of climate change, disasters, pestilence and energy shocks; and

5. Promoting reduction of regulatory barriers to affordable housing and integrated mixed-income communities.

III. HUD Research Assets

HUD has made, and continues to make, significant investments in “Research Assets,” as described below, including program demonstrations and in the production of datasets. PD&R is interested in seeing these assets leveraged in ways that may, or may not, be specifically referenced in the Roadmap Update or HUD's Strategic Plan. Such studies demonstrate a broader usefulness of HUD's Research Assets that further increases the return on these investments for the taxpayer. In considering potential research partnerships, PD&R urges organizations to consider ways to take advantage of key research assets, HUD's data infrastructure, that the Roadmap Update identifies as part of HUD's comparative advantage.

A. HUD demonstrations. HUD values demonstrations as a method for evaluating new policy and program initiatives and significantly advancing evidence-based policy, especially when rigorous random-assignment methods are feasible. HUD also is interested in research opportunities that take advantage of completed and ongoing demonstrations. For example, regarding the Moving to Opportunity demonstration, researchers continue to answer relevant policy questions using the existing data. Examples of demonstrations that are underway include Family Options, the Rental Assistance Demonstration, Pre-Purchase Counseling Outcome Study, and Rent Reform. Electronic versions of published HUD research can be found at https://www.huduser.gov/portal/research/home.html.

B. HUD data infrastructure. HUD makes significant investments to improve and support the nation's housing data, so submitting institutions are encouraged to consider opportunities to use HUD-sponsored survey data and administrative data. The American Housing Survey (AHS) is one of HUD's largest research investments. The AHS provides a wealth of data on size and composition of the nation's housing inventory that researchers could use more effectively to address questions about housing market dynamics.

C. HUD administrative data linkages. PD&R has partnered with the National Center for Health Statistics (NCHS) to longitudinally link HUD's administrative records for rental assistance participants with the National Health Interview Survey, the National Health and Nutrition Examination Survey, and associated NCHS linked files for Medicare, Medicaid, and mortality data. These data resources are available through the NCHS research data centers (https://www.cdc.gov/nchs/data-linkage/hud.htm).

HUD and the Census Bureau have entered an interagency agreement for the Center for Administrative Records Research and Applications (CARRA) to link data from demonstrations and administrative systems with survey data and other administrative records. PD&R encourages research partnerships that effectively use data assets through public use data or restricted access arrangements with CARRA or NCHS research data centers. Further information is available at: https://www.huduser.gov/portal/pdrdatas_landing.html.

IV. Protection of Human Research Subjects

HUD will require successful applicants to comply with requirements of the federal Common Rule (24 CFR part 60) for protecting human research subjects when applicable. Compliance may require grantees to seek review and approval of research plans by an Institutional Review Board (IRB). For research requiring an IRB review, work plans shall identify the IRB that the awardee will use and factor in the necessary cost and time involved in that review. HUD will require awardees to provide appropriate assurances and certifications of compliance before human subject's research begins.

A. Privacy. Submission of any information to databases (whether Web site, computer, paper, or other format) of personal identifiable information is subject to the protections of the Privacy Act of 1974. You should also check to ensure you meet state and local privacy regulations.

B. Cost Sharing. The Uniform Administrative Requirements, Cost Principles, and Audit Requirements for Federal Awards, set forth in 2 CFR part 200, shall apply to this Federal award. Cost sharing or matching means the portion of project costs not paid by Federal funds (unless otherwise authorized by Federal statute.) Applicants should refer to 2 CFR 200.306 for specific requirements.

C. Data Only Requests. For those who are interested in requesting only HUD data (no funds), a HUD data license agreement will be required. To obtain a copy of the data license application go to the following Web site: https://www.huduser.gov/portal/publications/pdf/data_license.pdf for research that is in alignment with one of the research priorities listed in this notice. Applications may be submitted to HUD at DataLicense@hud.gov.

D. Upon receipt, the application will be forwarded to the appropriate PD&R office for review and approval. A HUD data license is not required to use the HUD-NCHS linked datasets, but a HUD research partnership can support waivers of NCHS fees for the research data center if a research proposal is accepted by NCHS.

V. Description of Awards

A. Available Funds. HUD is making approximately $1 million available for Research Partnerships. Additional funds may become available for award because of HUD's efforts to recapture unused funds or use carryover funds. Use of these funds will be subject to statutory constraints.

B. Number of Awards. The number of awards will be based on the number of proposals HUD reviews, approves, and funds.

C. Period of Performance. The period of performance will be determined by the applicant's proposal and subject to negotiation by HUD.

D. Type of Funding Instrument. Cooperative Agreement.

VI. Eligibility Information

A. Eligible Applicants. Eligible applicants under this Notice include academic institutions, philanthropic entities, state and units of local government, not-for-profit and for-profit institutions located in the United States. For-profit firms are not allowed to earn a fee (i.e., make a profit from the project).

B. Cost Sharing. Cost sharing is required for research projects to be eligible for funding through HUD's non-competitive cooperative agreement authority. Research projects must include at least a 50 percent cost share from philanthropic organizations, Federal, state, local government agencies, or a combination of these entities. For the purposes of the cost-sharing requirement, HUD defines a philanthropic entity as the subset of 501(c)(3) organizations that directly fund research activities. These include private foundations, educational institutions that may have a separate foundation, public charities, and operating foundations. Philanthropic entities may include foreign entities. HUD will not count waiver of overhead or similar costs as cost-sharing contributions.

VII. Proposal and Submission Information

A. Proposal Submission. All proposals should be submitted electronically to Research Partnerships@hud.gov or mail to Department of Housing and Urban Development, Office of University Partnerships, 451 7th Street SW., Room 8226, Washington, DC 20410, ATTENTION: Research Partnerships.

B. Content and Form of Proposal Submission. Proposals should contain sufficient information for PD&R to identify whether the research would meet statutory requirements for cost sharing and alignment with the research priorities identified in Section II of this Notice. At a minimum, proposals must include:

1. Proposal Abstract. Applicants should provide a Proposal Abstract with the project title, the names and affiliations of all investigators, a summary of the objectives, study design and expected results, and the total funds requested.

2. Points of Contact. Applicants should clearly identify the name of the entity(s) submitting the proposal and detailed contact information for the point of contact;

3. Key Personnel. Applicants should provide information on key personnel that will be engaged with the project. HUD will assess the qualifications of key personnel to carry out the proposed study as evidenced by academic and professional background, publications, and recent (within the past 5 years) research experience. The proposed Principal Investigator must directly represent and be compensated directly by the applicant for his or her role in the proposed study. Publications and/or research experience are considered relevant if they required the acquisition and use of knowledge and skills that can be applied in the planning and execution of the technical study that is proposed.

4. Research Proposal Description. Applicants should provide a clear description of the research project, including the methodology being used, and its alignment with the PD&R research priorities identified. Specific components should include:

a. Clearly and thoroughly describe your proposed study and its design, and identify the major objectives;

b. The study should be presented as a logical sequence of steps or phases with individual tasks described for each phase;

c. Your narrative should reflect the relevant literature, which should be thoroughly cited in your application. Your proposed study will be judged in part on the soundness of the underlying body of research upon which it is based and the clarity and soundness of your summary and interpretation of this research base;

d. Describe the methodological and statistical basis for your study design and demonstrate that you would have adequate statistical power to test your stated hypotheses and achieve your study objectives;

e. Discuss your plans for data management, analysis, and archiving;

f. You should identify any important “decision points” in your study plan;

g. You should describe/list deliverables and associated timeframes; and

h. You should demonstrate that it is clearly feasible to complete the study within the proposed period of performance and successfully achieve your objectives.

5. Budget. Applicants should provide a detailed budget with line items including the amount of the HUD share and the contributions of any partners (cost sharing component) and/or the submitting institution. HUD strongly encourages using form HUD-424CBW to detail your budget request. The form is available at: https://www.hudexchange.info/resource/304/hud-form-424cbw//. Proposals for research partnerships that have already been to HUD as part of a grant competition are ineligible as the subject of a non-competitive cooperative agreement.

C. Review and Selection Process.

1. Proposals that meet all the threshold requirements will be eligible for review and rating.

2. Proposals will be reviewed by individuals who are knowledgeable in the field covered by the research proposal.

3. As required by the statutory authority within the appropriations bill, HUD will report each award provided through a cooperative agreement in the Federal Funding Accountability and Transparency Act Sub-award Reporting System created under the Federal Funding Accountability and Transparency Act of 2006.

Dated: June 15, 2017.
Matthew E. Ammon,
General Deputy Assistant Secretary for Policy Development and Research.

[FR Doc. 2017-12948 Filed 6-20-17; 8:45 am]

BILLING CODE 4210-67-P